DEPARTMENT OF ENERGY

Federal Energy Regulatory Commission

Combined Notice of Filings #1

March 28, 2006.

Take notice that the Commission received the following electric rate filings.

Docket Numbers: ER04-805-004.

Applicants: Wabash Valley Power Association, Inc.

Description: Wabash Valley Power Association, Inc submits revision to its market-based rate tariff.

Filed Date: 3/17/2006.

Accession Number: 20060324-0037.

Comment Date: 5 p.m. eastern time on Friday, April 7, 2006.

Docket Numbers: ER05-1230-001.

Applicants: Midwest Independent Transmission System Operator, Inc.

Description: Midwest Independent Transmission System Operator, Inc submits proposed revisions to Sheet 208 to FERC Electric Tariff, Third Revised Volume No. 1.

Filed Date: 3/15/2006.

Accession Number: 20060324-0033.

Comment Date: 5 p.m. eastern time on Wednesday, April 5, 2006.

Docket Numbers: ER06-321-002.

Applicants: Midwest Independent Transmission System Operator, Inc.

Description: Midwest ISO submits the signature page for the City Water Light and Power, IL signed by the Mayor of Springfield, IL in reference to December 14, 2005 filing.

Filed Date: 3/15/2006.

Accession Number: 20060324-0034.

Comment Date: 5 p.m. eastern time on Wednesday, April 3, 2006.

Docket Numbers: ER06-360-002; ER06-361-002; ER06-362-002; ER06-363-002; ER06-366-002; ER06-372-002.

Applicants: Midwest Independent Transmission System Operator, Inc.

Description: Midwest Independent Transmission System Operator Inc & Midwest ISO Transmission Owners submit proposed revisions to Schedule 23 of Midwest ISO's OAT and Energy Market Tariff.

Filed Date: 3/20/2006.

Accession Number: 20060324-0038.

Comment Date: 5 p.m. eastern time on Monday, April 10, 2006.

Docket Numbers: ER06-503-001.

Applicants: Puget Sound Energy, Inc.

Description: Puget Sound Energy, Inc submits a revision to Annex A, which includes the pro forma Large Generator Interconnection Procedures and Large Generator Interconnection Agreement.

Filed Date: 3/17/2006.

Accession Number: 20060324-0035.

Comment Date: 5 p.m. eastern time on Friday, April 7, 2006.

Docket Numbers: ER06-523-001.

Applicants: Ohio Valley Electric Corporation.

Description: Ohio Valley Electric Corp submits an amendment to the First Supplemental Agreement to the Facility Agreement with Cinergy Services, Inc.

Filed Date: 3/17/2006.

Accession Number: 20060324-0036.

Comment Date: 5 p.m. eastern time on Monday, April 3, 2006.

Docket Numbers: ER06-690-001.

Applicants: Midwest Independent Transmission System Operator, Inc.

Description: Midwest Independent Transmission System Operator, Inc. submits Substitute Third Revised Sheet No. 207 to FERC Electric Tariff, Third Revised Volume No. 1.

Filed Date: 3/16/2006.

Accession Number: 20060324-0032.

Comment Date: 5 p.m. eastern time on Thursday, April 6, 2006.

Docket Numbers: ER06-763-000.

Applicants: Motiva Enterprises LLC—Port Arthur Refinery.

Description: Motiva Enterprises LLC submits its proposed market-based rate tariff for its qualifying cogeneration facility.

Filed Date: 3/16/2006.

Accession Number: 20060324-0023.

Comment Date: 5 p.m. eastern time on Thursday, April 6, 2006.

Docket Numbers: ER06-768-000.

Applicants: Akula Energy, LLC.

Description: Akula Energy LLC submits a petition for acceptance of initial rate schedule, waivers and blanket authority.

Filed Date: 3/20/2006.

Accession Number: 20060324-0028.

Comment Date: 5 p.m. eastern time on Monday, April 10, 2006.

Docket Numbers: ER06-770-000; ER03-478-000.

Applicants: PPM Energy, Inc.

Description: PPM Energy, Inc submits proposed amendments to its market-based rate schedule to remove the prohibition against transactions with PacifiCorp as well as the codes of conduct.

Filed Date: 3/20/2006.

Accession Number: 20060324-0067.

Comment Date: 5 p.m. eastern time on Monday, April 10, 2006.

Any person desiring to intervene or to protest in any of the above proceedings must file in accordance with Rules 211 and 214 of the Commission's Rules of Practice and Procedure (18 CFR 385.211 and 385.214) on or before 5 p.m. eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Magalie R. Salas,
Secretary.

[FR Doc. E6-4706 Filed 3-30-06; 8:45 am]

BILLING CODE 6717-01-P